DEPARTMENT OF COMMERCE

National Oceanic and Atmospheric Administration

50 CFR Part 648

[Docket No. 160202068-6068-01]

RIN 0648-XE425

Fisheries of the Northeastern United States; Small-Mesh Multispecies Specifications

AGENCY: National Marine Fisheries Service (NMFS), National Oceanic and Atmospheric Administration (NOAA), Commerce.

ACTION: Proposed rule; request for comments.

SUMMARY: The purpose of this action is to modify the specifications for northern and southern red hake for fishing years 2016 and 2017. This action is necessary to implement the Council's recommended measures in response to updated scientific information. The proposed specifications are intended to help achieve sustainable yield and prevent overfishing.

DATES: Public comments must be received by April 22, 2016.

ADDRESSES: You may submit comments on this document, identified by NOAA-NMFS-2016-0030, by any of the following methods:

• Electronic Submission: Submit all electronic public comments via the Federal e-Rulemaking Portal. Go to www.regulations.gov/#!docketDetail;D=NOAA-NMFS-2016-0030, click the “Comment Now!” icon, complete the required fields, and enter or attach your comments.

• Mail: Submit written comments to John K. Bullard, Regional Administrator, National Marine Fisheries Service, 55 Great Republic Drive, Gloucester, MA 01930-2276. Mark the outside of the envelope: “Comments on Red Hake Specifications.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

New England Fishery Management Council staff prepared a Supplemental Information Report for the small-mesh multispecies specifications that describes the proposed action. The Council's document provides a discussion of the alternatives and the expected impacts. Copies of the specifications-related documents are available on request from Thomas A. Nies, Executive Director, New England Fishery Management Council, 50 Water Street, Newburyport, MA 01950. This document is also available from the following internet addresses: www.greateratlantic.fisheries.noaa.gov/ or www.nefmc.org.

FOR FURTHER INFORMATION CONTACT: Moira Kelly, Fishery Policy Analyst, (978) 281-9218.

SUPPLEMENTARY INFORMATION:

Background

The New England Fishery Management Council manages the small-mesh multispecies fishery primarily through a series of exemptions from the Northeast Multispecies Fishery Management Plan (FMP). The small-mesh multispecies fishery is composed of five stocks of three species of hakes (northern and southern silver hake, northern and southern red hake, and offshore hake). It is managed separately from the other stocks of groundfish such as cod, haddock, and flounders, primarily because the fishery uses small mesh and modified nets that do not generally result in the catch of these other stocks. Amendment 19 to the Northeast Multispecies FMP (April 4, 2013; 78 FR 20260) established a process and framework for setting the small-mesh multispecies catch specifications, as well as set the specifications for the 2012-2014 fishing years. On May 28, 2015, specifications for the 2015-2017 fishing years were published (80 FR 30379), based on stock assessment updates using data through the spring 2014 survey. These specifications were based on an update to the previously accepted stock assessment, using data through the 2014 Federal spring trawl survey. A stock assessment update was completed in 2015, using data through the 2015 spring survey. The 2015 update indicates that the northern red hake stock is increasing in biomass, while the southern stock is decreasing.

Proposed Measures

The purpose of this action is to modify the northern and southern red hake specifications for the 2016 and 2017 fishing years. The New England Fishery Management Council recommended these changes in response to its review of the most recent stock assessment update. A large year-class of northern red hake was identified in the 2013 Federal survey data. Because those fish were small at the time the 2015-2017 specifications were set, the impact to the specifications was minimal; however, the potential for a large increase in biomass during the middle of the specifications period was likely. The Council requested an update to the stock assessment in 2015 to monitor this year class and to adjust the specifications, if warranted.

As expected, the 2015 stock assessment update showed an increase in the northern red hake stock. The update also showed a decrease in the southern red hake stock; however, the reasons for the decline in the southern stock area are unclear.

In response to these changes, this rule proposes to increase the northern red hake and to decrease the southern red hake 2016 and 2017 annual catch limits and total allowable landings limits (Table 1), consistent with the stock assessment update and the Council's recommendation. The increase to the northern stock specifications will allow the fishery to benefit from this increase in biomass, as well as avoiding unnecessary discards by ensuring the possession limit is not reduced sooner than needed, while not substantially changing the already low risk of overfishing. The decrease in the southern stock specifications is necessary to reduce the risk of overfishing, even though recent landings are approximately 20 percent below the proposed revised specifications (Table 2).

Table 1—Summary of the Red Hake Specifications, in Metric Tons
| Northern Red Hake: Existing | Northern Red Hake: Proposed | Southern Red Hake: Existing | Southern Red Hake: Proposed
Overfishing Limit | 331 | 556 | 3,400 | 1,816
Acceptable Biological Catch | 287 | 496 | 3,179 | 1,717
Annual Catch Limit (ACL) | 273 | 471 | 3,021 | 1,631
Total Allowable Landings (TAL) | 104.2 | 120 | 1,309.4 | 746

Table 2—Comparison Between Proposed 2016-2017 Red Hake Specifications and 2014 Catch and Landings, in Metric Tons
| Northern Red Hake | Southern Red Hake
Proposed ACL | 471 | 1,631
2014 Catch | 278 | 1,277
% of Proposed ACL | 56% | 74%
Proposed TAL | 120 | 746
2014 Landings | 74 | 603
% of Proposed TAL | 62% | 81%

Classification

Pursuant to section 304(b)(1)(A) of the Magnuson-Stevens Act, the Assistant Administrator has determined that this proposed rule is consistent with the Northeast Multispecies FMP, other provisions of the Magnuson-Stevens Act, and other applicable law, subject to further consideration after public comment.

This action is exempt from review under E.O. 12866 because this action contains no implementing regulations.

The Chief Counsel for Regulation of the Department of Commerce certified to the Chief Counsel for Advocacy of the Small Business Administration that this proposed rule, if adopted, would not have a significant economic impact on a substantial number of small entities. The Council conducted an evaluation of the potential socioeconomic impacts of the proposed measures in conjunction with a supplemental information report. These analyses identified 1,007 unique fishing entities, 990 of which are considered small under current business standards, in the Greater Atlantic Region that could be affected by the proposed change. However, only 167 federally permitted vessels, all of which qualify as small entities under the Small Business Administration's small business standards, are expected to participate in the small-mesh fishery in the next two years. The proposed measures would modify the total allowable landings and catch limits consistent with recent scientific information. Under the proposed measures, the northern red hake stock catch limits increase, while the southern red hake stock catch limits decrease. A slight positive impact from the northern red hake stock may occur; however, red hake is generally not the target species for a given small-mesh fishing trip. Its value is much lower than silver hake (i.e., whiting), herring, and squid, which are the primary target species for vessels using small mesh. In addition, the southern red hake landings in recent years are below the proposed reduced landings limit, which is not expected to be constraining. Therefore, the economic impacts of this action are expected to be minimal. Although a large number of small entities may be affected, the effect will be neither negative nor significant.

As a result, an initial regulatory flexibility analysis is not required and none has been prepared.

There are no new reporting or recordkeeping requirements contained in any of the alternatives considered for this action.

Authority: 16 U.S.C. 1801 et seq.

Dated: April 1, 2016.
Samuel D. Rauch III,
Deputy Assistant Administrator for Regulatory Programs, National Marine Fisheries Service.

[FR Doc. 2016-07968 Filed 4-6-16; 8:45 am]

BILLING CODE 3510-22-P